DEPARTMENT OF COMMERCE

National Oceanic and Atmospheric Administration

RIN 0648-AV00

Atlantic Highly Migratory Species; Essential Fish Habitat

AGENCY: National Marine Fisheries Service (NMFS), National Oceanic and Atmospheric Administration (NOAA), Commerce.

ACTION: Notice of availability of a draft integrated environmental impact statement and a fishery management plan amendment; request for written comments; notice of public hearings.

SUMMARY: NMFS announces the availability of an draft integrated environmental impact statement and fishery management plan amendment pursuant to the National Environmental Policy Act (NEPA) that examines alternatives to revise existing Highly Migratory Species (HMS) Essential Fish Habitat (EFH); considers additional Habitat Areas of Particular Concern (HAPCs); and analyzes fishing and non-fishing impacts on EFH consistent with the Magnuson-Stevens Fishery Conservation and Management Act (Magnuson-Stevens Act) and other relevant Federal laws.

DATES: Public hearings for the draft integrated document will be held from September through December, 2008. See SUPPLEMENTARY INFORMATION for hearing dates, times, and locations. Written comments on this action must be received no later than 5 p.m., local time, on November 18, 2008.

ADDRESSES: Public hearings will be held in Massachusetts, Delaware, Maryland, North Carolina, Florida, and Alabama. Written comments on this action must be sent to Chris Rilling, Highly Migratory Species Management Division by any of the following methods:

• E-mail: HMSEFH@noaa.gov.

• Mail: 1315 East-West Highway, Silver Spring, MD 20910. Please mark the outside of the envelope “Comments on EFH Amendment to HMS FMP.”

• Fax: 301-713-1917.

Copies of the draft Amendment 1 to the Consolidated Atlantic Highly Migratory Species (HMS) Fishery Management Plan (FMP) are available from the HMS website under Breaking News at http://www.nmfs.noaa.gov/sfa/hms/ or by contacting Chris Rilling (see FOR FURTHER INFORMATION CONTACT).

FOR FURTHER INFORMATION CONTACT: Chris Rilling or Sari Kiraly by phone at (301) 713-2347 or by fax at (301) 713-1917.

SUPPLEMENTARY INFORMATION: The Magnuson-Stevens Act (16 U.S.C. 1801 et seq.) as amended by the Sustainable Fisheries Act (Public Law 104-297) requires the identification and description of EFH in FMPs and the consideration of actions to ensure the conservation and enhancement of such habitat. The EFH regulatory guidelines (50 CFR 600.815) state that NMFS should periodically review and revise EFH, as warranted, based on available information.

EFH, including HAPCs, for HMS was identified and described in the 1999 FMP for Atlantic Tunas, Swordfish, and Sharks, and in the 1999 Amendment 1 to the Atlantic Billfish FMP. EFH for five shark species was updated in the 2003 Amendment 1 to that FMP. Later, NMFS reviewed all new and existing EFH data in the 2006 Consolidated HMS FMP and determined that revisions to existing EFH for some Atlantic HMS may be warranted. The draft integrated environmental impact statement and amendment to the Consolidated HMS FMP (hereafter Draft Amendment 1) proposes alternatives to amend the existing EFH identifications and descriptions.

Habitat Areas of Particular Concern (HAPCs)

To further the conservation and enhancement of EFH, the EFH guidelines encourage FMPs to identify HAPCs. HAPCs are areas within EFH that should be identified based on one or more of the following considerations: 1) the importance of the ecological function provided by the habitat; 2) the extent to which the habitat is sensitive to human-induced environmental degradation; 3) whether, and to what extent, development activities are, or will be stressing the habitat type; and 4) the rarity of the habitat type. HAPCs can be used to focus conservation efforts on specific habitat types or areas that are especially important ecologically or particularly vulnerable to degradation. HAPCs are not required to have any specific management measures and an HAPC designation does not automatically result in closures or other fishing restrictions. Rather, the areas are intended to focus conservation efforts and bring heightened awareness to the importance of the habitat being considered as an HAPC.

Draft Amendment 1 considers several alternatives for designating HAPCs for bluefin tuna (BFT) spawning areas in the Gulf of Mexico. A growing body of evidence collected in the Gulf of Mexico, including but not limited to, NMFS observer program data, NMFS larval surveys, and peer-reviewed publications that include information from pop-up archival tags (PATs) and pop-up satellite archival tags (PSATs) have highlighted the central Gulf of Mexico as an important BFT spawning area. Although no directed BFT fishing is permitted in the Gulf of Mexico, and there are no direct environmental effects of designating the Gulf or portions of the Gulf as a HAPC, the designation could help identify additional conservation efforts, for example, to minimize the impacts of oil and gas development projects on BFT spawning habitat.

Fishing and Non-Fishing Activities

In addition to considering revisions to existing EFH and designating new HAPCs, the EFH guidelines require that FMPs identify fishing and non-fishing activities that may adversely affect EFH. Each FMP must include an evaluation of the potential adverse impacts of fishing on EFH designated under the FMP, effects of each fishing activity regulated under the FMP, as well as the effects of other Federal FMPs and non-federally managed fishing activities (i.e., state fisheries) on EFH. The FMPs must describe each fishing activity and review and discuss all available relevant information such as the intensity, extent, and frequency of any adverse effects on EFH; the type of habitat within EFH that may be adversely affected; and the habitat functions that may be disturbed (50 CFR 600.815(a)(2)). If adverse effects of fishing activities are identified, then the Magnuson-Stevens Act requires the effects of such fishing activities on EFH to be minimized to the extent practicable (Magnuson-Steven Act section 303(a)(7)).

NMFS completed the original analysis of fishing and non-fishing impacts in the 1999 FMP for Atlantic Tunas, Swordfish, and Sharks, and presented all new information gathered during the five-year review, including a comprehensive review of all fishing gears and non-fishing activities that could potentially impact EFH, in the 2006 Consolidated HMS FMP. In that FMP, NMFS preliminarily concluded that no HMS gear, other than bottom longline, was likely to have an effect on HMS or other managed species' EFH since most HMS gears such as rod and reel, handline, and pelagic longline, are fished in the water column where they are unlikely to affect either the water column or benthic habitat that define EFH for managed species. Bottom longline gear is used predominantly in the Atlantic commercial shark fishery to target large and small coastal sharks. The Consolidated FMP also indicated that additional analyses would be initiated to determine the extent to which bottom longline gear might be impacting specific habitats such as coral reefs. which are generally considered the habitat type most likely to be adversely affected by bottom longline gear.

This draft amendment includes: an assessment of whether HMS bottom longline gear is used in EFH; an analysis of the intensity, extent, and frequency of such impacts; and a determination as to whether those impacts are more than minimal and not temporary. The “more than minimal and not temporary” threshold was established by NMFS as the necessary threshold for taking additional action to minimize such impacts. Based on the analysis, NMFS has determined that bottom longline gear is not having more than a minimal and temporary effect on EFH and thus has not proposed any measures to restrict the use of bottom longline gear. The findings are based on observer program data which indicate that only a small fraction of bottom longline sets occur within coral reef habitat, as well as recent measures included in Amendment 2 to the Consolidated HMS FMP which are expected to greatly reduce fishing effort in the Atlantic shark fishery (73 FR 40658; July 15, 2008). Nevertheless, NMFS will continue to work with the Regional Fishery Management Councils to identify areas where bottom longline gear used in the reef fish fishery or snapper grouper fishery may be having an adverse effect on habitat, and where the Councils may propose to prohibit bottom longline gear. In those cases, NMFS may consider complementary regulations to prohibit shark bottom longline gear as was done in the Caribbean (72 FR 5633, February 7, 2007) and most recently in the South Atlantic Marine Protected Areas (73 FR 40658, July 15, 2008).

Public Hearings and Special Accommodations

As listed in the table below, NMFS will hold six public hearings to receive comments from fishery participants and other members of the public regarding this draft amendment to the Consolidated HMS FMP.

Date | Time | Hearing Location
Sept 30, 2008 | 3:30-4:30 p.m. | Crowne Plaza Hotel, 8777 Georgia Ave., Silver Spring, MD 20910
Oct 14, 2008 | 7:00-9:00 p.m. | Key Largo Grand Resort & Beach Club, 97000 South Overseas Highway, Key Largo, FL 33037
Oct 15, 2008 | 7:00-9:00 p.m. | Ramada Inn, 1701 S. Virginia Dare Trail, Kill Devil Hills, NC 27948
Oct 28, 2008 | 7:00-9:00 p.m. | Renaissance Riverview Plaza Hotel, 64 South Water St., Mobile, AL 36602
Nov 18, 2008 | 7:00-9:00 p.m. | Sheraton Ferncroft Resort, 50 Ferncroft Rd., Danvers, MA 01923
Dec 3, 2008 | 7:00-9:00 p.m. | Hilton Wilmington Riverside, 301 N. Water Street, Wilmington, NC 28401

These hearings will be physically accessible to people with disabilities. Requests for sign language interpretation or other auxiliary aids should be directed to Chris Rilling at (301) 713-2347 at least 7 days prior to the hearing date.

NMFS has requested time to present this draft amendment to the five Atlantic Regional Fishery Management Councils and the Atlantic and Gulf States Marine Fisheries Commissions at their meetings during the public comment period. Please see the Councils' and Commissions' fall and winter meeting notices for dates, times, and locations. NMFS also anticipates holding a meeting of its HMS Advisory Panel (AP) from September 30 - Oct 2, 2008, in Silver Spring, Maryland, and will present the draft amendment to the HMS AP.

Copies of Draft Amendment 1 to the Consolidated HMS FMP are available for review (see ADDRESSES). NMFS anticipates completing this integrated document and any related documents by the spring of 2009.

Authority: 16 U.S.C. 1801 et seq.

Dated: September 10, 2008.
James P. Burgess
Acting Director, Office of Sustainable Fisheries, National Marine Fisheries Service.

[FR Doc. E8-21846 Filed 9-18-08; 8:45 am]

BILLING CODE 3510-22-S